DEPARTMENT OF TRANSPORTATION

Federal Highway Administration

[U.S. DOT Docket No. FHWA-2008-0183]

FHWA Laboratory and Field Research; Agency Information Collection Activity Under OMB Review

AGENCY: Federal Highway Administration, DOT.

ACTION: Request for comments.

SUMMARY: The FHWA invites the public to comment on our intention to request the Office of Management and Budget (OMB) to approve a new information collection. This collection is summarized below under SUPPLEMENTARY INFORMATION. We are required to publish this notice in the Federal Register by the Paperwork Reduction Act of 1995.

DATES: Please submit comments by April 27, 2009.

ADDRESSES: You may submit comments identified by Docket ID Number FHWA-2008-0183 by any of the following methods:

Web Site: For access to the docket to read background documents or comments received, go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Thomas Granda, PhD, Team Leader, Human Centered Systems, Office of Safety Research and Development, HRDS-07, Turner-Fairbank Highway Research Center, Federal Highway Administration, 6300 Georgetown Pike, McLean, VA 22101, tel. 202-493-3365 between 8 a.m. and 5:30 p.m., Monday through Friday, except Federal holidays, or Paul J. Tremont, PhD, (same address) at 202-493-3338.

SUPPLEMENTARY INFORMATION: Title: FHWA Laboratory and Field Research.

Background: The FHWA invites public comments on our intention to request the Office of Management and Budget (OMB) to approve a total of 30 laboratory/field research studies that will include collections of information from the general public. These studies will be conducted over a period not to exceed three years with a total burden of approximately 5250 hours and an annual burden of approximately 1750 hours.

These collections are integral to the performance of various analytical, field, and laboratory human factors research projects that FHWA plans to conduct in support of its mission of improving safety and increasing mobility on our Nation's highways through National Leadership, Innovation, and Program Delivery.

The laboratory and field research FHWA conducts often involves observations of driver behavior. In the field, these studies are usually completely non-intrusive. However, some field and laboratory research studies require that interview data be collected from individual persons. For example, if drivers are participating in a research study on a novel intersection, interview data might be acquired from a subset of drivers to determine what they observed while driving or how they made their decisions. In these cases the interview will be brief (10-15 minutes). Similar interview data may be acquired when studies are conducted in a laboratory setting.

This planned approval request does NOT include work subsumed under Subtitle C of Public Law 109-59, Intelligent Systems Transportation Research (ITS). ITS work is exempted from requirements of the Paperwork Reduction Act of 1995, by a Special Rule under Section 5305 of Public Law 109-59, that states the following: “Any survey, questionnaire, or interview that the Secretary considers necessary to carry out the reporting of any test, deployment, project, or program assessment activity under this subtitle shall not be subject to Chapter 35 of Title 44, United States Code.”

Research Areas and Associated Collections

The FHWA Office of Safety Research and Development intends to conduct analytical, laboratory and field research projects focused on highway safety that will require acquisition of data from small samples of the general public. This research is directed at human factors issues within the following broad program areas: (A) Infrastructure design including innovative intersection configurations and signage and roadway markings; (B) highway operations; (C) driver-vehicle and infrastructure-vehicle interfaces; (D) older and younger driver programs; and (E) pedestrian and bicyclist issues. Given that the focus of the research in the above areas is on human factors issues, it is necessary that data also be collected on a few key demographic variables such as age, gender, and driving experience. None of the data collected in any of the planned research will be linked to personal identifying information.

Situations That Require Collections of Information—Examples From Each Category

Category A (Infrastructure Design). An example from Category A would be a study designed to test an innovative intersection design such as a Diverging Diamond Interchange (DDI). This is a highly efficient intersection design, but if not properly implemented, it could potentially cause confusion. In a DDI, drivers cross over to the left side of the highway, with the result that opposing traffic is placed on their right side. When testing a DDI, FHWA will need to know whether drivers perceived any ambiguity in the signage, if they had any orientation problems seeing opposing traffic on their right, and if they have any suggestions for improving the overall ease with which such an intersection could be driven. Other innovative intersection designs would also benefit from similar information acquired from drivers. Roadway departure is another problem area that could benefit from individual driver data. For example, it would be helpful to know how drivers perceive their interaction with the roadway geometry and signage, and then apply that information to design decisions that can lead to reductions in roadway departures.

Category B (Highway Operations). One of the many challenges confronting highway engineers is designing a signal system that maximizes throughput and minimizes delay. Excess delays could result in more drivers running red lights. This problem can be examined by observing drivers' behavior under differing signaling conditions. However, direct verbal reports of drivers are often needed to determine why drivers are making their decisions. For example FHWA may learn from questioning drivers that they would be less likely to speed up when approaching a signal if they knew the signal system would recognize this behavior and respond accordingly. One way this might happen is by advising the motorist earlier of the impending signal change. Driver interviews performed under this study area can provide information on many key issues including behavioral adaptation, decisionmaking, and reaction times to signal phases and changes. This kind of information could lead to improvements to signal controllers that increase mobility and improve safety. Speed management is another area of highway operations that could benefit from interview data. For example, lower speed limits in construction zones are difficult to enforce, and interview data with drivers can provide information on better methods of restraining driver speeds in these hazardous situations.

Category C (Older and Younger Drivers). The opinions of these two high risk groups are needed for almost all FHWA safety related studies. For example, data on the ease of use expressed by older drivers with respect to an innovative design informs the engineer which aspects of the new design that present potential safety problems and may be in need of modification. In contrast, young drivers present a separate set of challenges for highway engineers. Their ability to negotiate a new design may be less of a concern, however; it is necessary to understand how these drivers regard the conflict points presented by new designs. This is of particular importance as some younger drivers may be willing to take extra risks in situations where ambiguity exists. Gathering verbal feedback from younger drivers will help engineers determine areas of potential ambiguity in design and modify these areas as necessary to ensure they are not introducing safety hazards.

Category D (Pedestrians and Bicyclists). Research related to pedestrians and bicyclists arises from the need to determine the most effective ways to accommodate these infrastructure users. While overt pedestrian and bicyclist behavior can be directly observed fairly easily, it is sometimes necessary to collect user opinions and reactions. For example, when a new intersection design is being introduced (e.g., a triple lane roundabout), it is especially advantageous to acquire data that provides insights into the needs and challenges that pedestrians and bicyclists face as they negotiate such an intersection. The needs of disabled pedestrians are also considered when researching new intersection treatments, and in these efforts FHWA works closely with the U.S. Access Board to ensure that novel intersection treatments accommodate their needs. Another example of research in this area is determining bicyclists' reactions to such treatments as separately marked bicycle lanes, signage, and overall roadway configuration.

Description of How Field and Laboratory Study Participants Will Be Acquired

Samples for research studies will be acquired by advertisement in local papers, by the distribution of flyers, or by postings to the Internet. Typically, interested parties contact FHWA and they are asked a few questions to determine whether they qualify for the study. These questions involve such issues as age, driver familiarity with the location or scenario being used, number of miles driven per year, and gender.

Estimate of the Total Annual Reporting and Recordkeeping Burden Resulting From These Information Collections and Requests for Comments

Respondents: Approximately 6,000 roadway users drawn from the general driving population.

Frequency: This approval request is for 30 studies over a three-year period.

Estimated Average Burden per Respondent: FHWA estimates data acquisition from persons participating in a laboratory or field research study will average about 1 hour. For those field studies only using direct observation of driver behaviors and interviews of randomly selected drivers, the maximum burden (for the interview) will be 15 minutes per participant.

Estimated Total Burden Hours: Assuming 15 studies will be laboratory based, 10 will be field based, and 5 will use direct observation with 15-minute interviews (.25 hour), the burden is calculated as follows:

Laboratory studies: 15 studies × 200 participants × 1 hour = 3,000 hours

Field studies: 10 studies × 200 participants × 1 hour = 2,000 hours

Field studies (interview only): 5 studies × 200 participants × .25 hour = 250 hours

3-year total = 5,250 hours

Estimated Total Annual Burden Hours: 5,250/3 = 1,750 hours

Public Comments Invited: You are asked to comment on any aspect of these information collections, including: (1) Whether the proposed collections are necessary for FHWA's performance; (2) the accuracy of the estimated burden; (3) ways for FHWA to enhance the quality, usefulness, and clarity of the collected information; and (4) ways that the burden could be minimized, including the use of electronic technology, without reducing the quality of the collected information. FHWA will respond to your comments and summarize or include them when requesting clearance from OMB for these information data collections.

Authority: The Paperwork Reduction Act of 1995; 44 U.S.C. Chapter 35, as amended; and 49 CFR 1.48.

Issued on February 20, 2009.
Judith Kane,
Acting Chief, Management Programs & Analysis Division.

[FR Doc. E9-4098 Filed 2-25-09; 8:45 am]

BILLING CODE 4910-22-P